DEPARTMENT OF HEALTH AND HUMAN SERVICES

Health Resources and Services Administration

Advisory Committee; Notice of Meeting

In accordance with section 10(a)(2) of the Federal Advisory Committee Act, (Public Law 92-463), announcement is made of the following National Advisory body scheduled to meet during the month of June 2001.

Name: Advisory Committee on Interdisciplinary, Community-Based Linkages.

Date and Time: June 7, 2001; 9:30 a.m.-5:30 p.m.; June 8, 2001; 9:30 a.m.-4 p.m.

Place: The Doubletree Hotel Park Terrace on Embassy Row 1515 Rhode Island Avenue, NW., Washington, DC 20005.

The meeting is open to the public.

Agenda items will include, but not be limited to: Welcome; plenary discussion of community-based and interdisciplinary education; guidance provided on an ad hoc basis by Federal program staff from the Division of Interdisciplinary, Community-Based Programs (DICP) and the Division of Medicine and Dentistry (DMD), Bureau of Health Professions (BHPr), Health Resources and Services Administration (HRSA); and refining standards and writing the Committee report due to the Secretary and the Congress in November 2001.

Meeting content will be based on the Committee's charge under Section 756 of the Public Health Service Act, to include background research and writing of the Committee report and scheduling of topics of the next Committee meeting in September 2001.

Public comment will be permitted before lunch and at the end of the Committee meeting on June 7 and 8, 2001. Oral presentations will be limited to 5 minutes per public speaker. Persons interested in providing an oral presentation should submit a written request, with a copy of their presentation to: Mr. Leo Wermers, Principal Staff Liaison, Division of Interdisciplinary, Community-Based Programs, Bureau of Health Professions, Health Resources and Services Administration, Room 9-105, 5600 Fishers Lane, Rockville, Maryland 20857, Telephone (301) 443-1648.

Requests should contain the name, address, telephone number, and any business or professional affiliation of the person desiring to make an oral presentation. Groups having similar interests are requested to combine their comments and present them through a single representative. The Division of Interdisciplinary, Community-Based Programs will notify each presenter by mail or telephone of their assigned presentation time.

Persons who do not file an advance request for a presentation, but wish to make an oral statement may register to do so at the Doubletree Hotel Park Terrace on Embassy Row, Washington, D.C. on June 7, 2001. These persons will be allocated time as the Committee meeting agenda permits.

FOR FURTHER INFORMATION CONTACT: Anyone requiring information regarding the Committee should contact Mr. Wermers, Division of Interdisciplinary, Community-Based Programs, Bureau of Health Professions, Health Resources and Services Administration, Room 9-105, 5600 Fishers Lane, Rockville, Maryland 20857, Telephone (301) 443-1648.

Dated: May 16, 2001.
Jane M. Harrison,
Director, Division of Policy Review and Coordination.

[FR Doc. 01-12809 Filed 5-21-01; 8:45 am]

BILLING CODE 4160-15-P